DEPARTMENT OF HEALTH AND HUMAN SERVICES

Centers for Disease Control and Prevention

[30Day-05-04KE]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5976 or send an email to omb@cdc.gov. Send written comments to CDC Desk Officer, Office of Management and Budget, Washington, DC via fax to (202) 395-6974. Written comments should be received within 30 days of this notice.

Proposed Project

Evaluation of the Sexually Transmitted Disease (STD) Faculty Expansion Program (FEP)—New—National Center for HIV, STD, and TB Prevention (NCHSTP), Centers for Disease Control and Prevention (CDC).

Background:

Primary care physicians play a significant role in STD prevention and control. Diagnosing, treating, reporting, partner notification, and patient counseling which emphasizes appropriate prevention messages, are all important physician contributions to STD control. In the curricula of most medical schools and residency programs, STDs and the public health role of primary care physicians in their control and prevention receive little emphasis.

To address this lack of training, CDC implemented the STD Faculty Expansion Program (FEP), which aims to improve capacity of primary care physicians to diagnose, treat, and prevent STDs. The FEP provides medical schools with funding for an additional faculty member to develop and implement curriculum for training medical students and residents, develop collaborative relationships with local health departments, and coordinate STD clinical experiences for medical students and residents. The potential long-tern impact of the STD-related training includes: Increase physician awareness of STDs, greater comfort and confidence in counseling patients, increased case reporting and partner management, and ultimately lower STD incidence.

This project is an evaluation of the FEP. Because the outcomes of greatest relevance (increased physician awareness, increased collaboration with public health departments, decreased STD incidence) will occur only after students and residents who are currently receiving the enhanced training go into practice, the evaluation focuses on intermediate outcomes as a means of assessing the program's utility and effectiveness.

Four medical schools (e.g. Morehouse School of Medicine, University of Alabama at Birmingham, Louisiana State University Medical Center, and the University of California Los Angeles School of Medicine) currently receive support under the FEP. The evaluation of the FEP consists of a survey of third-year medical students at the four currently funded schools and a sample of third-year medical students in all other U.S. medical schools.

A paper-and-pencil survey instrument will be administered to the students in the four FEP schools in a classroom or clinic setting or through the school mail distribution system. The survey instrument will be distributed to the sample of students from all other medical schools using express mail.

Survey topics will include:

—Hours of clinical and didactic training received during the first three years of medical school.

—Knowledge and efficacy with basic STD clinical diagnosis, treatment, and prevention.

—Students' confidence in taking a sexual history and providing specific prevention counseling to patients.

—Student familiarity with the role of the public health department in control and prevention of STDs.

A total of 850 students will be surveyed—approximately 425 at the FEP schools and 425 from all other U.S. medical schools. Evidence that the FEP's enhanced STD training is effective will include greater knowledge of and comfort in diagnosis, treatment and prevention of STDs among FEP students, recall of more time having been devoted to STDs during medical training, and greater awareness of the primary care physician's public health role in STD control and prevention. The time required to complete the survey will be approximately 25 minutes. The total annual burden for this data collection is 354 hours.

Annualized Table:

Respondents | Number of respondents | Number of responses per respondent | Average burden per response (in hours)
3rd Year Medical Students | 850 | 1 | 25/60

Dated: March 3, 2005.
Betsey Dunaway,
Acting Reports Clearance Officer, Office of the Chief Science Officer, Centers for Disease Control and Prevention.

[FR Doc. 05-4684 Filed 3-9-05; 8:45 am]

BILLING CODE 4163-18-P